ENVIRONMENTAL PROTECTION AGENCY

[FRL OP-OFA-094]

Environmental Impact Statements; Notice of Availability

Responsible Agency: Office of Federal Activities, General Information 202-564-5632 or https://www.epa.gov/nepa.

Weekly receipt of Environmental Impact Statements (EIS)

Filed October 30, 2023 10 a.m. EST Through November 3, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230154, Draft, USAF, TX, T-7A Recapitalization at Laughlin Air Force Base, Texas, Comment Period Ends: 01/08/2024, Contact: Chinling Chen 830-298-5262.

EIS No. 20230155, Draft, BLM, CO, Gunnison Sage-Grouse Resource Management Plan Amendment, Comment Period Ends: 02/06/2024, Contact: Gina Phillips 970-240-5381.

EIS No. 20230156, Draft, USAF, TX, B-21 Beddown Main Operating Base 2 or Main Operating Base 3 at Dyess AFB or Whiteman AFB, Comment Period Ends: 01/05/2024, Contact: Chris Moore 325-696-4820.

EIS No. 20230157, Draft Supplement, NRC, TX, Generic Environmental Impact Statement for License Renewal of Nuclear Plants, Supplement 60, Regarding License Renewal of Comanche Peak Nuclear Power Plant, Draft Report for Comment, Comment Period Ends: 12/26/2023, Contact: Tam Tran 301-415-3617.

EIS No. 20230158, Draft, BLM, CO, Draft Resource Management Plan Amendment (RMPA) and Environmental Impact Statement (EIS) for Big Game Habitat Conservation for Oil and Gas Management, Comment Period Ends: 02/06/2024, Contact: Ashley Phillips 303-239-3948.

EIS No. 20230159, Draft, BLM, UT, Cross-Tie 500Kv Transmission Project, Comment Period Ends: 01/02/2024, Contact: Clara Stevens 435-743-3119.

Dated: November 3, 2023.
Nancy Abrams,
Associate Director, Office of Federal Activities.

[FR Doc. 2023-24784 Filed 11-8-23; 8:45 am]

BILLING CODE 6560-50-P